DEPARTMENT OF DEFENSE

Office of the Secretary of Defense

Defense Business Board (DBB)

AGENCY: DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: Defense Business Board (DBB).

2. Date: Thursday, April 17, 2008.

3. Time: 12 p.m. to 1:30 p.m..

4. Location: Rockwell Hall, United States Transportation Command, Scott Air Force Base, O'Fallon, IL.

5. Purpose of the Meeting: The mission of the DBB is to advise the Secretary of Defense on effective strategies for implementation of best business practices of interest to the Department of Defense. At this meeting, the Board will deliberate on findings from three task groups: (1) Task Group on Tooth-to-Tail Review, (2) Task Group Industrial Base Strategic Relationship, and (3) Task Group on Enterprise Governance. Copies of DRAFT Task Group presentations will be available on Friday, April 11th by contacting the DBB Office.

6. Agenda: 12 p.m.-1:30 p.m. Public Meeting.

• Task Group Reports:

• Tooth-to-Tail.

• Industrial Base Strategic Relationship.

• Enterprise Governance.

7. Public's Accessibility to the Meeting: Pursuant to 5 U.S.C. 552b and 41 CFR 102-3.140 through 102-3.165, and the availability of space, this meeting is open to the public. Seating is on a first-come basis. Members of the public who wish to attend the meeting must contact the Defense Business Board no later than Noon on Monday, April 14th to be placed on a list of attendees. Members of the public without access to Scott AFB must arrive at the Visitor Center, Main Entrance, Shiloh Gate by 11 a.m. to be escorted to Rockwell Hall. Local Point of Contact is Mr. Lance Davidson, (618) 229-4098. Public attendees are required to bring two forms of identification upon arrival at Scott AFB: (1) A government-issued photo I.D., and (2) any type of secondary I.D. which verifies the individual's name (i.e. debit card, credit card, work badge, social security card).

8. Committee's Designated Federal Officer: Kelly Van Niman, Defense Business Board, 1155 Defense Pentagon, Room 3C288, Washington, DC 20301-1155, kelly.vanniman@osd.mil, (703) 697-2346.

SUPPLEMENTARY INFORMATION: Pursuant to 41 CFR 102-3.105(j) and 102-3.140, and section 10(a)(3) of the Federal Advisory Committee Act of 1972, the public or interested organizations may submit written statements to the Defense Business Board about its mission and functions. Written statements may be submitted at any time or in response to the stated agenda of a planned meeting of the Defense Business Board.

All written statements shall be submitted to the Designated Federal Officer for the Defense Business Board, and this individual will ensure that the written statements are provided to the membership for their consideration. Contact information for the Designated Federal Officer can be obtained from the GSA's FACA Database— https://www.fido.gov/facadatabase/public.asp.

Statements being submitted in response to the agenda mentioned in this notice must be received by the Designated Federal Officer at the address listed above at least five calendar days prior to the meeting which is the subject of this notice. Written statements received after this date may not be provided to or considered by the Defense Business Board until its next meeting.

The Designated Federal Officer will review all timely submissions with the Defense Business Board Chairperson and ensure they are provided to all members of the Defense Business Board before the meeting that is the subject of this notice.

FOR FURTHER INFORMATION CONTACT: Linda Clay, Defense Business Board, 1155 Defense Pentagon, Room 3C288, Washington, DC 20301-1155, linda.clay@osd.mil, (703) 697-2168.

Dated: March 17, 2008.
L.M. Bynum,
Alternate OSD Federal Register Liaison Officer, Department of Defense.

[FR Doc. E8-5737 Filed 3-20-08; 8:45 am]

BILLING CODE 5001-06-P